SOCIAL SECURITY ADMINISTRATION

Privacy Act of 1974 as Amended; Computer Matching Program (SSA/Centers for Medicare and Medicaid Services (CMS))—Match Number 1300

AGENCY: Social Security Administration (SSA).

ACTION: Notice of a new computer matching program.

SUMMARY: In accordance with the provisions of the Privacy Act, as amended, this notice announces a new computer matching program that SSA will conduct with CMS.

DATES: SSA will file a report of the subject matching program with the Committee on Governmental Affairs of the Senate, the Committee on Government Reform of the House of Representatives and the Office of Information and Regulatory Affairs, Office of Management and Budget (OMB). The matching program will be effective as indicated below.

ADDRESSES: Interested parties may comment on this notice by either telefax to (410) 965-8582 or writing to the Associate Commissioner for Income Security Programs, 245 Altmeyer Building, 6401 Security Boulevard, Baltimore, MD 21235-6401. All comments received will be available for public inspection at this address.

FOR FURTHER INFORMATION CONTACT: The Associate Commissioner for Income Security Programs as shown above.

SUPPLEMENTARY INFORMATION:

A. General

The Computer Matching and Privacy Protection Act of 1988 (Public Law (Pub. L.) 100-503), amended the Privacy Act (5 U.S.C. 552a) by establishing the conditions under which computer matching involving the Federal Government could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating or denying an individual's benefits or payments.

B. SSA Computer Matches Subject to the Privacy Act

We have taken action to ensure that all of SSA's computer matching programs comply with the requirements of the Privacy Act, as amended.

Dated: April 2, 2004.
Martin H. Gerry,
Deputy Commissioner for Disability and Income Security Programs.

Notice of Computer Matching Program, Social Security Administration (SSA) With the Centers for Medicare and Medicaid Services (CMS)

A. Participating Agencies

SSA and CMS.

B. Purpose of the Matching Program

The purpose of this matching program is to establish the conditions, safeguards, and procedures under which SSA will disclose income data on all Medicare eligible individuals from SSA's Master Beneficiary Record (MBR) and its Supplemental Security Income Record and Special Veterans Benefits (SSR) to CMS. These disclosures will provide CMS with information to use in verifying an individual's self-certification of eligibility for Transitional Assistance under the Medicare Prescription Drug Discount Card Program provided under the Medicare Prescription Drug, Improvement and Modernization Act of 2003.

C. Authority for Conducting the Matching Program

The legal authority for this computer matching program is contained in the Medicare Prescription Drug, Improvement and Modernization Act of 2003, Pub. L. 108-173, section 101, 117 Stat. 2066 (2003) and section 1106 (42 U.S.C. 1306) of the Social Security Act.

D. Categories of Records and Individuals Covered by the Matching Program

SSA will provide information electronically to CMS from the following systems of records: Master Beneficiary Record (MBR), SSA/OEEAS, 60-0090, last published at 66 FR 11080 (February 21, 2001), and the SSA Supplemental Security Income Record and Special Veterans Benefits (SSR), SSA/OEEAS, 60-0103, last published at 66 FR 11085 (February 21, 2001). SSA will disclose information to CMS from the MBR system of record pursuant to routine use number 24. SSA will disclose information to CMS from the SSR system of record pursuant to routine use number 19.

CMS will match this benefit/income information with the CMS system of records, Medicare Beneficiary Database, System No. 09-70-0536 published in the Federal Register at 67 FR 63392 (December 6, 2001). Matched data will be released pursuant to routine use number 2 as set forth in the system notice.

E. Inclusive Dates of the Matching Program

The matching program will become effective upon signing of the agreement by all parties to the agreement and approval of the agreement by the Data Integrity Boards of the respective agencies, but no sooner than 40 days after notice of the matching program is sent to Congress and the Office of Management and Budget, or 30 days after publication of this notice in the Federal Register, whichever date is later. The matching program will continue for 18 months from the effective date and may be extended for an additional 12 months thereafter, if certain conditions are met.

[FR Doc. 04-7951 Filed 4-7-04; 8:45 am]

BILLING CODE 4191-02-P